DEPARTMENT OF THE INTERIOR

National Park Service

[NPS-WASO-NRNHL-DTS#-37069; PPWOCRADI0, PCU00RP14.R50000]

National Register of Historic Places; Notification of Pending Nominations and Related Actions

AGENCY: National Park Service, Interior.

ACTION: Notice.

SUMMARY: The National Park Service is soliciting electronic comments on the significance of properties nominated before December 2, 2023, for listing or related actions in the National Register of Historic Places.

DATES: Comments should be submitted electronically by December 27, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 2, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

CALIFORNIA

San Francisco County

Western Manufacturing Company Building, 149 9th Street, San Francisco, SG100009717

Sierra County

Sierra City School, 418 Main Street (California Route 49), Sierra City, SG100009718

KENTUCKY

Christian County

St. Elmo School, 12225 Bradshaw Road, Pembroke, SG100009724

Franklin County

Green Hill Missionary Baptist Church, 127 Greenhill Avenue, Frankfort, SG100009725

Jefferson County

John G. Epping Bottling Works, 702, 708, 712, and 718 Logan Street, Louisville, SG100009726

Martin County

Inez Deposit Bank, 25 Main Street, Inez, SG100009727

Muhlenberg County

Taylor, Edward, House, 215 East Main Cross Street, Greenville, SG100009728

Perry County

Memorial Gym, 491 L.O. Davis Drive, Hazard, SG100009729

Russell County

H.M. Smith General Merchandise and Fonthill Post Office, 279 South KY SR 76, Fonthill, SG100009730

Trigg County

Smith, George and Nellie White, House, 11 Jefferson Street, Cadiz, SG100009731

MINNESOTA

Hennepin County

District No. 99 School, 10980 West River Road, Champlin, SG100009722

MISSISSIPPI

Warren County

Gilland-Hudon House, 1810 Cherry Street, Vicksburg, SG100009721

OHIO

Cuyahoga County

Euclid Avenue Temple/Liberty Hill Baptist Church, (Twentieth-Century African American Civil Rights Movement in Ohio MPS), 8206 Euclid Avenue, Cleveland, MP100009713

Seneca County

Camp Pittenger Historic District, 8877 S Township Road 131, McCutchenville vicinity, SG100009723

VIRGINIA

Norfolk Independent City

Granby Street Suburban Institutional Corridor, Granby Street, Newport Avenue, Seekel Street, Thole Street, Norfolk, SG100009735

WISCONSIN

Walworth County

Adkins, Henry D. L. and Jennie, House, 24 North Church Street, Elkhorn, SG100009715

A request for removal has been made for the following resource(s):

GEORGIA

Burke County

Haven Memorial Methodist Episcopal Church, Barron St., S of Jct. of Barron and 6th Sts., Waynesboro, OT96000397

Additional documentation has been received for the following resource(s):

ALABAMA

Barbour County

Lore, Seth and Irwinton Historic District (Boundary Increase), Roughly bounded by Browder St., Van Buren Ave., Washington St., and Sanford Ave., Eufaula, AD86001534

ARIZONA

Pima County

Winterhaven Historic District (Additional Documentation), 2911 East Farr Street, Tucson, AD05001466

DISTRICT OF COLUMBIA

District of Columbia

Terrell, Mary Church, House (Additional Documentation), 326 T St. NW, Washington, AD75002055

NORTH CAROLINA

Craven County

New Bern Historic District (Boundary Increase) (Additional Documentation), Roughly 2 blks of N Craven, blk on Pasteur St., roughly along Bern, West, Cedar Sts. and Trent Court, New Bern, AD03000965

VIRGINIA

Petersburg Independent City

Pocahontas Island Historic District, Pocahontas, Witten, Rolfe, Logan, and Sapony Sts., Petersburg (Independent City), AD06000977

Authority: Section 60.13 of 36 CFR part 60.

Sherry A. Frear,
Chief, National Register of Historic Places/National Historic Landmarks Program.

[FR Doc. 2023-27180 Filed 12-11-23; 8:45 am]

BILLING CODE 4312-52-P